DEPARTMENT OF COMMERCE

National Oceanic and Atmospheric Administration

50 CFR Part 224

RIN 0648-AV15

Protective Regulations for Killer Whales in the Northwest Region Under the Endangered Species Act and Marine Mammal Protection Act

AGENCY: National Marine Fisheries Service (NMFS), National Oceanic and Atmospheric Administration (NOAA), Commerce.

ACTION: Proposed rule; notification of extension of public comment period.

SUMMARY: We, the National Marine Fisheries Service (NMFS), are issuing this notice to advise the public that NMFS is extending the public comment period for proposed regulations under the Endangered Species Act and Marine Mammal Protection Act to prohibit vessels from approaching killer whales within 200 yards and from parking in the path of whales for vessels in inland waters of Washington State. The proposed regulations would also prohibit vessels from entering a conservation area during a defined season. The proposed rule was published July 29, 2009, opening a 90-day public comment period and noticing two public meetings. In response to requests from the public, on September 17, 2009, we published a notice in the Federal Register announcing an additional public meeting. We are issuing this notice to announce an 80-day extension of the public comment period in response to requests to provide more time for the public to review the proposed regulation and provide comments.

We recognize that by extending the public comment period, we will not have sufficient time to issue a final rule prior to the 2010 summer boating season. We continue to believe that it is important to address the adverse effects of vessel traffic on killer whales in the near future. In light of the requests we have received for an extension of the comment period, however, we believe additional public outreach will enhance both NMFS' understanding of public concerns and the public's understanding of the basis for our proposal, and it will allow time for cooperative efforts to refine the proposal. We will work toward adoption of a final rule prior to the 2011 summer boating season. We will consider all comments and information received during the comment period in preparing a final rule.

DATES: Written or electronic comments on the proposed rule and draft Environmental Assessment (EA) from all interested parties are encouraged and must be received no later than January 15, 2010. All comments and material received, including names and addresses, will become part of the administrative record and may be released to the public.

ADDRESSES: Comments on the proposed rule, draft EA and any of the supporting documents can be submitted by any of the following methods:

• E-mail: orca.plan@noaa.gov.

• Federal e-rulemaking Portal: http://www.regulations.gov.

• Mail: Assistant Regional Administrator, Protected Resources Division, Northwest Regional Office, National Marine Fisheries Service, 7600 Sand Point Way NE, Seattle, WA 98115.

The draft EA and other supporting documents are available on Regulations.gov and the NMFS Northwest Region Web site at http://www.nwr.noaa.gov/.

You may submit information and comments concerning this Proposed Rule, the draft EA, or any of the supporting documents by any one of several methods identified above. We will consider all comments and information received during the comment period in preparing a final rule. Before including your address, phone number, e-mail address, or other personal identifying information in your comment, you should be aware that your entire comment- including your personal identifying information- may be made publicly available at any time. While you can ask us in your comment to withhold your personal identifying information from public review, we cannot guarantee that we will be able to do so.

FOR FURTHER INFORMATION CONTACT: Lynne Barre, Northwest Regional Office, 206-526-4745; or Trevor Spradlin, Office of Protected Resources, 301-713-2322.

SUPPLEMENTARY INFORMATION:

Background

On July 29, 2009, NMFS proposed regulations under the Endangered Species Act and Marine Mammal Protection Act to prohibit vessels from approaching killer whales within 200 yards and from parking in the path of whales for vessels in inland waters of Washington State (74 FR 37674). The proposed regulations would also prohibit vessels from entering a conservation area during a defined season. Certain vessels would be exempt from the prohibitions. The purpose of the action is to protect killer whales from interference and noise associated with vessels. In the final rule announcing the endangered listing of Southern Resident killer whales NMFS identified disturbance and sound associated with vessels as a potential contributing factor in the recent decline of this population. The Recovery Plan for Southern Resident killer whales calls for evaluating current guidelines and assessing the need for regulations and/or protected areas (73 FR 4176; January 24, 2008). We developed the proposed rule after considering comments submitted in response to an Advance Notice of Proposed Rulemaking (72 FR 13464; March 22, 2007) and preparing a draft environmental assessment.

Dated: October 13, 2009.
Helen Golde,
Deputy Director, Office of Protected Resources, National Marine Fisheries Service.

[FR Doc. E9-25063 Filed 10-16-09; 8:45 am]

BILLING CODE 3510-22-S